DEPARTMENT OF JUSTICE

Antitrust Division

Notice Pursuant to the National Cooperative Research and Production Act of 1993—International Multimedia Telecommunications Consortium

Notice is hereby given that, on September 20, 2004, pursuant to section 6(a) of the National Cooperative Research and Production Act of 1993, 15 U.S.C. 4301 et seq. (“the Act”), International Multimedia Telecommunications Consortium (“IMTC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: International Multimedia Telecommunications Consortium, San Ramon, CA. The nature and scope of IMTC's standards development activities are: To advocate the common interests of the industry through education and promotion; to be an unbiased source of information to end users, press, industry analysts, legislators, regulators, and the industry; to identify obstacles to the growth and success of the industry, and to implement or recommend solutions; to develop and advocate requirements to standards-making organizations; and to promote and facilitate interoperability testing of real-time Multimedia Telecommunications products and services.

Dorothy B. Fountain,
Deputy Director of Operations, Antitrust Division.

[FR Doc. 04-23773 Filed 10-22-04; 8:45 am]

BILLING CODE 4410-11-M